INTERNATIONAL TRADE COMMISSION

[Inv. No. 337-TA-515]

In the Matter of Certain Injectable Implant Compositions; Notice of Commission Decision Not To Review an Initial Determination Terminating the Investigation in Its Entirety on the Basis of Withdrawal of the Complaint

AGENCY: U.S. International Trade Commission.

ACTION: Notice.

SUMMARY: Notice is hereby given that the U.S. International Trade Commission has determined not to review the presiding administrative law judge's (“ALJ”) initial determination (“ID”) terminating the above-captioned investigation as to all the respondents on the basis of withdrawal of the complaint.

FOR FURTHER INFORMATION CONTACT: Rodney Maze, Esq., Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint filed by Inamed Corporation (“Inamed”) of Santa Barbara, California. 69 FR 35676 (June 25, 2004). The complainant alleged violations of section 337 in the importation into the United States, the sale for importation, and the sale within the United States after importation of certain injectable implant compositions by reason of infringement of claims 1, 2, 7, 12, 18, 20, 25, 26 and 30-34 of U.S. Patent No. 4,803,075. The complaint, as amended, named Q-Med Aktiebolag of Uppsala Sweden, Medicis Aesthetics, Inc., of Scottsdale, Arizona, and McKesson Corporation, McKesson Health Solutions of Arizona, Inc., and McKesson Supply Solutions, all of San Francisco, California, as respondents.

On March 23, 2005, Inamed and the respondents filed a joint motion to terminate the investigation as to all parties based on withdrawal of the complaint. On April 4, 2005, the Commission investigative attorney filed a response in support of the motion. On April 5, 2005, the ALJ issued an ID (Order No. 33) granting the parties' joint motion for termination of the investigation. No petitions to review the ID were filed. The Commission has determined not to review this ID.

Issued: April 18, 2005.
By order of the Commission.
Marilyn R. Abbott,
Secretary to the Commission.

[FR Doc. 05-8087 Filed 4-21-05; 8:45 am]

BILLING CODE 7020-02-P